ENVIRONMENTAL PROTECTION AGENCY

[EPA-HQ-OPP-2022-0223; FRL-10192-01-OCSPP]

Cancellation Order for Certain Pesticide Registrations

AGENCY: Environmental Protection Agency (EPA).

ACTION: Notice.

SUMMARY: The Environmental Protection Agency (EPA) hereby announces its order for the cancellations, voluntarily requested by the registrants and accepted by the Agency, of the products listed in Table 1 and Table 1A of Unit II, pursuant to the Federal Insecticide, Fungicide, and Rodenticide Act (FIFRA). This cancellation order follows an April 28, 2022, Federal Register Notice of Receipt of Requests from the registrants listed in Table 2 of Unit II, to voluntarily cancel these product registrations. In the April 28, 2022, notice, EPA indicated that it would issue an order implementing the cancellations, unless the Agency received substantive comments within the 30-day comment period that would merit its further review of these requests, or unless the registrants withdrew their requests. The Agency received seven comments on the notice regarding the registrations containing the ingredient chlorpyrifos. The chlorpyrifos registrations are not included in this cancellation order and have been addressed in a separate order. Registrants did not withdraw their requests. Accordingly, EPA hereby issues in this cancellation order granting the requested cancellations shown in this cancellation order. Any distribution, sale, or use of the products subject to this cancellation order is permitted only in accordance with the terms of this order, including any existing stocks provisions.

DATES: The cancellations are effective September 14, 2022.

FOR FURTHER INFORMATION CONTACT: Christopher Green, Registration Division (7505T), Office of Pesticide Programs, Environmental Protection Agency, 1200 Pennsylvania Ave. NW, Washington, DC 20460-0001; telephone number: (202) 566-2707; email address: green.chrisopher@epa.gov.

SUPPLEMENTARY INFORMATION:

I. General Information

A. Does this action apply to me?

This action is directed to the public in general and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2022-0223, is available at https://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room is (202) 566-1744, and the telephone number for the OPP Docket is (202) 566-1744. Please review the visitor instructions and additional information about the docket available at https://www.epa.gov/dockets.

II. What action is the Agency taking?

This notice announces the cancellation, as requested by registrants, of products registered under FIFRA section 3 (7 U.S.C. 136a). These registrations are listed in sequence by registration number in Table 1 and Table 1A of this unit.

Table 1—Product Cancellations
Registration No. | Company No. | Product name | Active ingredients
239-2657 | 239 | Ortho Groundclear Total Vegetation Killer | Glyphosate-isopropylammonium & Imazapyr, isopropylamine salt.
239-2686 | 239 | Ground Clear RTU | Imazapyr, isopropylamine salt & Glyphosate-isopropylammonium.
279-3465 | 279 | F-9559 Insecticide | Lambda-Cyhalothrin.
279-3551 | 279 | Proaxis CHA | Gamma-Cyhalothrin.
279-3574 | 279 | Proaxis EX | Gamma-Cyhalothrin.
279-3578 | 279 | Fyfanon Plus ULV | Malathion (NO INERT USE) & gamma-Cyhalothrin.
279-3582 | 279 | Prolex | Gamma-Cyhalothrin.
279-3598 | 279 | Malathion 851 G/L + Gamma-Cyhalothrin 12.8 G/L EC | Gamma-Cyhalothrin & Malathion (NO INERT USE).
279-9570 | 279 | Gat Lambda 25 CS | Lambda-Cyhalothrin.
1381-210 | 1381 | Mystic Z Insecticide | Lambda-Cyhalothrin.
1381-211 | 1381 | Grizzly Z Insecticide | Lambda-Cyhalothrin.
1381-257 | 1381 | Grizzly Too | Lambda-Cyhalothrin.
6836-276 | 6836 | Lonza Dc-101 RTU | Alkyl* dimethyl benzyl ammonium chloride *(50%C14, 40%C12, 10%C16); 1-Decanaminium, N-decyl-N,N-dimethyl-, chloride; 1-Octanaminium, N,N-dimethyl-N-octyl-, chloride & 1-Decanaminium, N,N-dimethyl-N-octyl-, chloride.
7969-144 | 7969 | Frontier Herbicide | Dimethenamid.
7969-147 | 7969 | Frontier 6.0 Herbicide | Dimethenamid.
9688-124 | 9688 | Fungicide M1 | Myclobutanil.
9688-157 | 9688 | Chemsico Aerosol M | Myclobutanil.
9688-158 | 9688 | Chemsico RTU M | Myclobutanil.
9688-160 | 9688 | Chemsico Fungicide Concentrate M6 | Myclobutanil.
9688-165 | 9688 | Chemsico Fungicide Concentrate 3000 | Myclobutanil.
9688-219 | 9688 | Chemsico Lawn Granules 4LF | Lambda-Cyhalothrin.
9688-220 | 9688 | Chemsico Lawn Granules 3LF | Lambda-Cyhalothrin.
34704-917 | 34704 | Isoxaben 75DF Specialty Herbicide | Isoxaben.
34704-968 | 34704 | LPI Iprodione Fungicide | Iprodione.
53883-70 | 53883 | Martin's Insectitabs | Lambda-Cyhalothrin.
53883-260 | 53883 | CSI Lambda 25 CS | Lambda-Cyhalothrin.
53883-261 | 53883 | CSI Lambda 9.7 CS | Lambda-Cyhalothrin.
53883-292 | 53883 | CSI Lambda-Cyhalothrin Technical | Lambda-Cyhalothrin.
83222-23 | 83222 | Lambda 25 CS | Lambda-Cyhalothrin.
83402-1 | 83402 | Zestat A-100 | Cetyl pyridinium chloride.
83402-2 | 83402 | Zestat Preservative | Cetyl pyridinium chloride.
87373-41 | 87373 | A364.02 | Paraquat dichloride.
87373-112 | 87373 | Paraquat Technical | Paraquat dichloride.
91234-87 | 91234 | A364.01 | Paraquat dichloride.
92061-1 | 92061 | United Disinfectant Wipes | Alkyl* dimethyl 3,4-dichlorobenzyl ammonium chloride *(50%C14, 40%C12, 10%C16); 1-Decanaminium, N-decyl-N,N-dimethyl-, chloride; 1-Octanaminium, N,N-dimethyl-N-octyl-, chloride & 1-Decanaminium, N,N-dimethyl-N-octyl-, chloride.
AZ-190001 | 62719 | Enlist Duo | 2,4-D, Choline salt & Glycine, N-(phosphonomethyl)-, compd. with N-methylmethanamine (1:1).
AZ-200001 | 62719 | GF-3335 | 2,4-D, Choline salt.
CA-050012 | 264 | Buctril 4EC Herbicide | Bromoxynil octanoate & Bromoxynil heptanoate.
ID-000009 | 5481 | Amvac AZA 3% EC | Azadirachtin.
MT-060001 | 400 | Dimilin 2L | Diflubenzuron.
MT-090004 | 70506 | Bifenture EC Agricultural Insecticide | Bifenthrin.
MT-180001 | 66222 | ADA 11280 Insecticide | Acetamiprid & Novaluron.
NC-050004 | 95290 | Curfew | Telone.
ND-090001 | 70506 | Super Tin 4L Fungicide | Fentin hydroxide.
NY-080010 | 70506 | Kraken | Triclopyr, triethylamine salt.
OR-110007 | 62719 | Entrust | Spinosad.
OR-160013 | 62719 | Entrust SC | Spinosad.
TX-120010 | 100 | Gramoxone SL 2.0 | Paraquat dichloride.
UT-180010 | 5481 | Parazone 3SL Herbicide | Paraquat dichloride.
WA-010004 | 5481 | K-Salt Fruit Fix 200 | Potassium 1-naphthaleneacetate.
WA-100005 | 62719 | Stinger | Clopyralid, monoethanolamine salt.
WA-160005 | 279 | Dupont Coragen Insect Control | Chlorantraniliprole.
WA-960002 | 100 | Beacon Herbicide | Primisulfuron-methyl

Table 1A—Product Cancellation
Registration No. | Company No. | Product name | Active ingredients
MT-120005 | 62719 | Entrust. | Spinosad.

The registration listed in Table 1A of Unit II, requested the effective date of cancellation to be, March 3, 2022.

Table 2 of this unit includes the names and addresses of record for all registrants of the products in Table 1 and Table 1A of this unit, in sequence by EPA company number. This number corresponds to the first part of the EPA registration numbers of the products listed in this unit.

Table 2—Registrants of Cancelled Products
EPA company No. | Company name and address
100 | Syngenta Crop Protection, LLC, 410 Swing Road, P.O. Box 18300, Greensboro, NC 27419-8300.
239 | The Scotts Company, d/b/a, The Ortho Group, P.O. Box 190, Marysville, OH 43040.
264 | Bayer CropScience, LP, Agent Name: Bayer CropScience, LLC, 801 Pennsylvania Avenue, Suite 900, Washington, DC 20004.
279 | FMC Corporation, 2929 Walnut Street, Philadelphia, PA 19104.
400 | MacDermid Agricultural Solutions, Inc., Agent Name: UPL NA, Inc., 630 Freedom Business Center, Suite 402, King of Prussia, PA 19406.
1381 | Winfield Solutions, LLC, P.O. Box 64589, St. Paul, MN 55164-0589.
5481 | Amvac Chemical Corporation, 4695 Macarthur Court, Suite 1200, Newport Beach, CA 92660-1706.
6836 | Arxada, LLC, 412 Mount Kemble Avenue, Suite 200S, Morristown, NJ 07960.
7969 | BASF Corporation, Agricultural Products, 26 Davis Drive, P.O. Box 13528, Research Triangle Park, NC 27709-3528.
9688 | Chemsico, A Division of United Industries Corp., P.O. Box 142642, St. Louis, MO 63114-0642.
34704 | Loveland Products, Inc., P.O. Box 1286, Greeley, CO 80632-1286.
53883 | Control Solutions, Inc., 5903 Genoa Red Bluff Road, Pasadena, TX 77507.
62719 | Corteva Agriscience, LLC, 9330 Zionsville Road, Indianapolis, IN 46268.
66222 | Makhteshim Agan of North America, Inc., d/b/a, Adama, 3120 Highwoods Blvd., Suite 100, Raleigh, NC 27604.
70506 | UPL NA, Inc., 630 Freedom Business Center, Suite 402, King of Prussia, PA 19406.
83222 | Winfield Solutions, LLC, 1080 County Rd., F West, MS5705, P.O. Box 64589, St. Paul, MN 55164.
83402 | Vertellus, LLC, Agent Name: The Acta Group, L.L.C., 201 N Illinois St., Suite 1800, Indianapolis, IN 46204.
87373 | Argite, LLC, Agent Name: Wagner Regulatory Associates, P.O. Box 640, Hockessin, DE 19707-0640.
91234 | Atticus, LLC, Agent Name: Pyxis Regulatory Consulting, Inc., 4110 136th Street Ct. NW, Gig Harbor, WA 98332-9122.
92061 | VRC Technologies, Inc., Agent Name: Mandava Chemical Consulting, 68602 N Dallas Parkway, Suite 200, Plano, TX 75024.
95290 | Salt Lake Holding, LLC, 2211 H.H. Dow Way, Midland, MI 48674.

III. Summary of Public Comments Received and Agency Response to Comments

The Agency received seven comments on the notice regarding the registrations containing the ingredient chlorpyrifos. The chlorpyrifos registrations have been removed from this cancellation order. The cancellation order and comments received for the registrations containing the ingredient chlorpyrifos can be found in the cancellation order, published in the Federal Register of August 31, 2022 (87 FR 53473) (FRL-10138-01-OCSPP). During the public comment period provided, EPA received no comments in response to the April 28, 2022, Federal Register notice announcing the Agency's receipt of the requests for voluntary cancellations of all other products listed in this cancellation order in Table 1 and Table 1A of Unit II.

IV. Cancellation Order

Pursuant to FIFRA section 6(f) (7 U.S.C. 136d(f)), EPA hereby approves the requested cancellations of the registrations identified in Table 1 and Table 1A of Unit II. Accordingly, the Agency hereby orders that the product registrations identified in Table 1 and Table 1A of Unit II, are canceled. The effective date of the cancellation listed in Table 1A of Unit II, is effective March 3, 2022. The effective date of the cancellations in Table 1 of Unit II, that are the subject of this notice is September 14, 2022. Any distribution, sale, or use of existing stocks of the products identified in Table 1 and Table 1A of Unit II, in a manner inconsistent with any of the provisions for disposition of existing stocks set forth in Unit VI, will be a violation of FIFRA.

V. What is the Agency's authority for taking this action?

FIFRA section 6(f)(1) (7 U.S.C. 136d(f)(1)) provides that a registrant of a pesticide product may at any time request that any of its pesticide registrations be canceled or amended to terminate one or more uses. FIFRA further provides that, before acting on the request, EPA must publish a notice of receipt of any such request in the Federal Register. Thereafter, following the public comment period, the EPA Administrator may approve such a request.

The notice of receipt for this action was published for comment in the Federal Register of April 28, 2022 (87 FR 25256) (FRL-9723-01-OCSPP). The comment period closed on May 31, 2022.

VI. Provisions for Disposition of Existing Stocks

Existing stocks are those stocks of registered pesticide products which are currently in the United States, and which were packaged, labeled, and released for shipment prior to the effective date of the cancellation action. The existing stocks provisions for the products subject to this order are as follows.

For the registration MT-120005, listed in Table 1A of Unit II, the registrant requested the effective date of cancellation to be March 3, 2022. The registrant may continue to sell and distribute existing stocks of the product listed in Table 1A of Unit II, until March 3, 2023. Thereafter, the registrant is prohibited from selling or distributing the product listed in Table 1A of Unit II, except for export in accordance with FIFRA section 17 (7 U.S.C. 136o), or proper disposal.

The registrants may continue to sell and distribute existing stocks of the products listed in Table 1 of Unit II, until September 14, 2023, which is 1 year after the publication of the Cancellation Order in the Federal Register. Thereafter, the registrants are prohibited from selling or distributing products listed in Table 1 of Unit II, except for export in accordance with FIFRA section 17 (7 U.S.C. 136o), or proper disposal.

Persons other than the registrants may sell, distribute, or use existing stocks of products listed in Table 1 and Table 1A of Unit II, until existing stocks are exhausted, provided that such sale, distribution, or use is consistent with the terms of the previously approved labeling on, or that accompanied, the cancelled products.

Authority: 7 U.S.C. 136 et seq.

Dated: September 8, 2022.
Marietta Echeverria,
Acting Director, Registration Division, Office of Pesticide Programs.

[FR Doc. 2022-19793 Filed 9-13-22; 8:45 am]

BILLING CODE 6560-50-P